DEPARTMENT OF ENERGY

Excess Uranium Management: Effects of DOE Transfers of Excess Uranium on Domestic Uranium Mining, Conversion, and Enrichment Industries; Request for Information

AGENCY: Office of Nuclear Energy, Department of Energy.

ACTION: Request for information (RFI).

SUMMARY: The U.S. Department of Energy (DOE) is preparing for a potential new Secretarial Determination covering transfers of uranium for cleanup services at the Portsmouth Gaseous Diffusion Plant and for down-blending of highly-enriched uranium to low-enriched uranium (LEU). This RFI solicits information from the public about the uranium markets and domestic uranium industries, and the potential effects of DOE transfers in the uranium markets and possible consequences for the domestic uranium mining, conversion and enrichment industries. DOE will consider this information as part of its analysis to determine whether its transfers would have an adverse material impact on the domestic uranium mining, conversion, or enrichment industry.

DATES: DOE will accept comments, data, and information responding to this RFI submitted on or before August 18, 2016.

ADDRESSES: Interested persons may submit comments by any of the following methods.

1. Email: RFI-UraniumTransfers@hq.doe.gov. Submit electronic comments in Microsoft Word, or PDF file format and avoid the use of special characters or any form of encryption.

2. Postal Mail: Ms. Cheryl Moss Herman, U.S. Department of Energy, Office of Nuclear Energy, Mailstop B-409, 19901 Germantown Rd., Germantown, MD 20874-1290. If possible, please submit all items on a compact disk (CD), in which case it is not necessary to include printed copies.

3. Hand Delivery/Courier: Ms. Cheryl Moss Herman, U.S. Department of Energy, Office of Nuclear Energy, Mailstop B-409, 19901 Germantown Rd., Germantown, MD 20874-1290. Phone: (301) 903-1788. If possible, please submit all items on a CD, in which case it is not necessary to include printed copies.

Instructions: All submissions received must include the agency name for this request for information. No facsimiles (faxes) will be accepted.

FOR FURTHER INFORMATION CONTACT: Requests for additional information may be sent to: Ms. Cheryl Moss Herman, U.S. Department of Energy, Office of Nuclear Energy, Mailstop B-409, 19901 Germantown Rd., Germantown, MD 20874-1290. Phone: (301) 903-1788. Email: Cheryl.Moss_Herman@Nuclear.Energy.Gov.

SUPPLEMENTARY INFORMATION:

Table of Contents

I. Authority and Background

II. Issues on Which DOE Seeks Comment and Information

III. Submission of Comments

IV. Confidential Business Information

I. Authority and Background

Title I, Chapters 6-7, 14, of the Atomic Energy Act of 1954 (42 U.S.C. 2011 et seq., “AEA”) authorizes the Department of Energy to transfer special nuclear material and source material. Enriched uranium and natural uranium are types of special nuclear material and source material, respectively. In 1996, Congress enacted the USEC Privatization Act (Public Law 104-134, 42 U.S.C. 2297h et seq.), which places certain limitations on DOE's authority to transfer uranium from its excess uranium inventory. Specifically, under section 3112(d)(2)(B) of the USEC Privatization Act (42 U.S.C. 2297h-10(d)(2)(B)), DOE may make certain transfers of natural or low-enriched uranium if the Secretary determines that the transfers “will not have an adverse material impact on the domestic uranium mining, conversion or enrichment industry, taking into account the sales of uranium under the Russian Highly Enriched Uranium Agreement and the Suspension Agreement.” Section 306(a) of Division D, Title III of the Consolidated and Further Continuing Appropriations Act, 2015 (Public Law 113-235), limits the validity of any determination by the Secretary under section 3112(d)(2)(B) of the USEC Privatization Act to no more than two calendar years subsequent to the determination.

In recent years, DOE has transferred uranium for cleanup services at the Portsmouth Gaseous Diffusion Plant and for down-blending of highly-enriched uranium to low-enriched uranium (LEU). In May 2015, the Secretary determined that certain transfers, described in the determination, would not have an adverse material impact on the domestic uranium mining, conversion, or enrichment industry (the “2015 Secretarial Determination”).¹ The 2015 Determination covers transfers to contractors for cleanup services at the Portsmouth Gaseous Diffusion Plant of up to 2,000 metric tons of natural uranium equivalent (MTU) contained in natural uranium hexafluoride in calendar year 2015, as well as transfers of up to 1,600 MTU per calendar year contained in natural uranium hexafluoride in calendar year 2016 and thereafter. The 2015 Secretarial Determination also covers an amount of LEU equivalent to up to 500 MTU of natural uranium per calendar year in calendar year 2015 and thereafter, transferred to contractors for down-blending highly-enriched uranium to LEU.

¹ Excess Uranium Management: Secretarial Determination of No Adverse Impact on the Domestic Uranium Mining, Conversion, and Enrichment Industries, 80 FR 26366 (May 7, 2015).

DOE is preparing for a new Secretarial Determination that would cover further transfers of uranium for cleanup services at the Portsmouth Gaseous Diffusion Plant and for down-blending of highly-enriched uranium to LEU upon expiration of the 2015 Secretarial Determination. DOE is initiating this process by publishing this RFI seeking information on the uranium markets and domestic uranium industries. DOE will evaluate comments received in response to this RFI, along with other information and analysis, to determine whether its future transfers would have an adverse material impact on the domestic uranium mining, conversion, or enrichment industry.

II. Issues on Which DOE Seeks Comment and Information

This RFI seeks information from interested parties on the uranium markets and domestic uranium industries, and the potential effects of DOE's transfers on the uranium markets and possible consequences for domestic uranium industries. DOE will use that information to help analyze and determine whether its transfers would have an adverse material impact on the domestic uranium mining, conversion, or enrichment industry. For all comments, DOE requests that interested parties fully explain any assumptions that underlie their reasoning. DOE also requests that commenters provide underlying data or other information sufficient to allow DOE to review and verify any of the assumptions, calculations or views expressed by the commenters.

DOE specifically invites public comment on the following questions:

(1) What are current and projected conditions in the uranium markets, and the domestic uranium mining, conversion and enrichment industries?

(2) What market effects and industry consequences could DOE expect from continued transfers at annual rates comparable to the transfers described in the 2015 Secretarial Determination?

(3) Would transfers at a lower annual rate or a higher annual rate significantly change these effects, and if so, how?

(4) Are there any anticipated changes in these markets that may significantly change how DOE transfers affect the domestic uranium industries?

Although comment is particularly welcome on the issues discussed above, DOE also requests comments on other topics that commenters consider significant in preparing for a potential new Secretarial Determination.

III. Submission of Comments

DOE invites all interested parties to submit, in writing by August 18, 2016, comments and information on matters addressed in this RFI. Any information that may be confidential and exempt by law from public disclosure should be submitted as described in section IV. Confidential Business Information. After the close of the comment period, DOE will continue collecting data, conducting analyses, and reviewing the public comments, as needed.

IV. Confidential Business Information

Pursuant to 10 CFR 1004.11, any person submitting information he or she believes to be confidential and exempt by law from public disclosure should submit via email, postal mail, or hand delivery/courier two well-marked copies: One copy of the document marked “confidential” including all the information believed to be confidential, and one copy of the document marked “non-confidential” with the information believed to be confidential deleted. Submit these documents via email. DOE will make its own determination about the confidential status of the information and treat it according to its determination. Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

Issued in Washington, DC, on July 12, 2016.
Raymond Furstenau,
Associate Principal Deputy Assistant Secretary, Office of Nuclear Energy.

[FR Doc. 2016-17024 Filed 7-18-16; 8:45 am]

BILLING CODE 6450-01-P